ENVIRONMENTAL PROTECTION AGENCY

[ER-FRL-9007-3]

Environmental Impacts Statements; Notice of Availability

Responsible Agency: Office of Federal Activities, General Information (202) 564-7146 or http://www.epa.gov/compliance/nepa/.

Weekly receipt of Environmental Impact Statements

Filed 01/14/2013 Through 01/18/2013

Pursuant to 40 CFR 1506.9

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp

EIS No. 20130009, Final EIS, NPS, HI, Hawaii Volcanoes National Park Project, Protecting and Restoring Native Ecosystems by Managing Non-Native Ungulates, Hawaii County, HI, Review Period Ends: 02/25/2013, Contact: Rhonda Loh 808-986-6098.

EIS No. 20130010, Draft EIS, BLM, CO, Grand Junction Field Office Resource Management Plan, Mesa, Garfield, Montrose and Rio Blanco Counties, CO, Comment Period Ends: 04/25/2013, Contact: Collin Ewing 970-244-3627.

EIS No. 20130011, Draft EIS, NPS, TX, Lake Meredith National Recreation Area, Off-Road Management Plan, TX, Comment Period Ends: 03/26/2013, Contact: Arlene Wimer 806-857-0300.

EIS No. 20130012, Draft EIS, USFS, MT, Blackfoot Travel Plan, Lincoln Ranger District, Helena National Forest, Lewis and Clark and Powell Counties, MT, Comment Period Ends: 03/11/2013, Contact: Amber Kamps 406-362-7002.

EIS No. 20130013, Final EIS, USFS, ID, Scriver Creek Integrated Restoration Project, Emmett Ranger District, Boise National Forest, Boise and Valley Counties, ID, Review Period Ends: 03/12/2013, Contact: Randal Hayman 208-373-4157.

EIS No. 20130014, Final EIS, FHWA, 00, Illiana Corridor Project Tier One Transportation System Improvements, Will and Kankakee Counties, IL and Lake County, IN, Contact: J. Michael Bowen 217-492-4600.

EIS No. 20130015, Draft Supplement, FHWA, CA, Mid County Parkway, a new Freeway from the City of Perris to the City of San Jacinto, Riverside County, CA, Comment Period Ends: 03/11/2013, Contact: Larry Vinzant 916-498-5040.

Amended Notices

EIS No. 20090231, Draft EIS, BIA, CA, Point Molate Mixed-Use Tribal Destination Resort and Casino, Proposed Project is to Strengthen the Tribal Government and Improve the Social Economic Status, Guidiville Band of Pomo Indian of the Guidiville Rancheria (Tribe), City of Richmond, Contra Costa County, CA, Comment Period Ends: 10/23/2009, Contact: Larry Blevin 916-978-6037. Revision to FR Notice Published 10/09/2009; The U.S. Department of the Interior's Bureau of Indian Affairs has Officially Cancelled the above project.

EIS No. 20120369, Draft EIS, NOAA, CA, Authorization of Incidental Take and Implementation of the Mendocino Redwood Habitat Conservation Plan/Natural Community Conservation and Timber Management Plan, Mendocino County, CA, Comment Period Ends: 04/22/2013, Contact: Eric Shott 707-575-6089. Revision to FR Notice Published 11/23/2012; Extending Comment Period from 02/21/2013 to 04/22/2013.

EIS No. 20120383, Draft EIS, USACE, CA, Gregory Canyon Landfill, Application for Permit Authorizing Discharge of Fill in U.S. Waters, San Diego County, CA, Comment Period Ends: 04/15/2013, Contact: William H. Miller 602-230-6954. Revision to FR Notice Published 11/23/2012; Extending Comment Period from 02/21/2013 to 04/22/2013.

Dated: January 22, 2013.
Cliff Rader,
Director, NEPA Compliance Division, Office of Federal Activities.

[FR Doc. 2013-01586 Filed 1-24-13; 8:45 am]

BILLING CODE 6560-50-P